TENNESSEE VALLEY AUTHORITY

Sunshine Act Meeting (Meeting No. 1558)

Time and Date: 9 a.m. (e.s.t.), March 23, 2005, Greeneville High School Auditorium, 210 Tusculum Boulevard, Greeneville, Tennessee.

Status: Open.

Agenda

Approval of minutes of meeting held on January 18, 2005.

New Business

C—Energy

C1. Recommendation for approval of $200 million in funding to cover anhydrous ammonia purchases over the next 5 years to support the operation of TVA's selective catalytic reduction equipment, to be allocated among three current blanket contracts with Cherokee Nitrogen, LaRoche Industries, and Terra Industries.

C2. Delegation of authority to the Executive Vice President, Fossil Power Group, to enter into contracts with Babcock & Brown Rail Funding LLC and Johnstown America Corporation for the lease of rail cars to deliver coal and/or synthetic fuel to various TVA fossil plants.

C3. Delegation of authority to the Executive Vice President, Fossil Power Group, to enter into contracts with Rogers Group Inc. for limestone supply to Paradise and Shawnee Fossil Plants.

C4. Contract with Nol-Tec Systems to design, furnish, install, test, and commission hydrated lime injection systems for sulfur trioxide (SO3) mitigation at various TVA fossil plants.

C5. Contract with General Electric Company for auxiliary power boards for various TVA hydro and fossil plants.

C6. Supplement to Contract No. 00038906 with Fujitsu Network Communications for supply of synchronous optical network components.

E—Real Property Transactions

E1. Modification of certain deed restrictions affecting approximately 0.1 acre of former TVA land on Cherokee Reservoir in Hamblen County, Tennessee, Tract No. XCK-104, S.1X, to allow an existing portion of a house, heat pump, and deck to remain on the property.

E2. Grant of a permanent easement to the State of Tennessee for an access road and utility lines affecting land on Tims Ford Reservoir in Moore County, Tennessee, Tract No. XTTMFR-45E.

E3. Grant of a permanent easement to the State of North Carolina for a highway improvement project affecting approximately 55 acres of land on Hiwassee Reservoir in Cherokee County, North Carolina, Tract No. XTFBR-32H.

Information Items

1. Approval of FY 2005 Winning Performance Team Incentive Plan Scorecards.

2. Approval of a grant of a permanent easement to the State of Tennessee for a highway and bridge improvement project affecting approximately 7.7 acres of land on Chickamauga Reservoir in Meigs County, Tennessee, Tract No. XTCR-202H.

3. Approval of membership and chair appointments to the third-term Regional Resource Stewardship Council.

4. Approval of the amendment of the Regional Resource Stewardship Council charter to require that, beginning with the 2006 membership appointments, at least six members are new to the Council.

5. Approval of Adams Street Partners, LLC, as a new investment manager for the TVA Retirement System and approval of the investment management agreement.

6. Approval of replacement power arrangements with Kerr-McGee Chemical LLC.

7. Approval to file condemnation cases to acquire easements, rights-of-way, and tree-removal rights for TVA power transmission line projects affecting the South Jackson-Cordova Tap to Gallaway Transmission Line in Fayette County, Tennessee, and the Johnsonville-Columbia Tap to South Waverly Transmission Line in Humphreys County, Tennessee.

8. Approval of Competitive Indexed Rate arrangements for North Georgia EMC service to Mohawk Industries.

9. Approval of the proposed Joint Reliability Coordination Agreement among and between TVA, Midwest Independent Transmission System Operator, Inc., and PJM Interconnection, LLC.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: March 16, 2005.
Maureen H. Dunn,
General Counsel and Secretary.

[FR Doc. 05-5572 Filed 3-17-05; 10:38 am]

BILLING CODE 8120-08-P